DEPARTMENT OF TRANSPORTATION

Federal Transit Administration

Fiscal Year 2024 Competitive Funding Opportunity: Technology Transfer (T2) Program

AGENCY: Federal Transit Administration (FTA), Department of Transportation (DOT).

ACTION: Notice of funding opportunity (NOFO).

SUMMARY: The Federal Transit Administration (FTA) announces the opportunity to apply for a total of $5,000,000 from Fiscal Years (FY) 2022, 2023, and 2024 in Public Transportation Innovation Program funds for a competitive cooperative agreement to develop and manage a new FTA Technology Transfer (T2) Program.

DATES: Complete applications must be submitted electronically through the grants.gov “APPLY” function by 11:59 p.m. eastern time on February 11, 2025. Prospective applicants should initiate the process by registering on the grants.gov website promptly to ensure completion of the application process before the submission deadline. Instructions for applying can be found on FTA's website at https://www.transit.dot.gov/howtoapply and in the “FIND” module of grants.gov. The funding opportunity ID is FTA-2025-002-TRI. Mail, fax, and email submissions will not be accepted.

FOR FURTHER INFORMATION CONTACT: Shapell Randolph, FTA Office of Research, Demonstration, and Innovation, phone: 202-366-1086, or email shapell.randolph@dot.gov. In addition, up to the application deadline, the U.S. Department of Transportation (Department) will post answers to common questions and requests for clarifications on the Department's website at https://www.transit.dot.gov/grant-programs/technology-transfer-t2-program.

Summary Overview of Key Information—FTA Technology Transfer (T2) Program Competitive Funding Opportunity
Issuing Agency | Federal Transit Administration, U.S. Department of Transportation.
Program Overview | To establish a Technology Transfer (T2) Program under 49 U.S.C. 5312(e)(2) to promote the early deployment and demonstration of innovation in public transportation that has broad applicability to public transportation.
Eligible Applicants | Departments, agencies, and instrumentalities of the Government, including Federal laboratories; State and local governmental entities; providers of public transportation; private or non-profit organizations; institutions of higher education; and technical and community colleges.
Eligible Project | Activities may include: All activities that promote the early deployment and demonstration of innovative research, advance promising technologies, practices and strategies including, but not limited to planning, acquiring essential services, and program implementation. Activities that seek to commercialize technologies developed through FTA funding.
Funding Amount | $5,000,000. Additional funds made available prior to project selection may be allocated to eligible projects.
Deadline | February 11, 2025 at 11:59 p.m. eastern time.
Cost share | The maximum Federal share of project costs under this program is 100 percent.

SUPPLEMENTARY INFORMATION:

Table of Contents

A. Program Description

B. Federal Award Information

C. Eligibility Information

D. Application and Submission Information

E. Application Review Information

F. Federal Award Administration Information

G. Federal Awarding Agency Contacts

H. Other Information

A. Program Description

Background

The Federal Transit Administration (FTA) Public Transportation Innovation Program (49 U.S.C. 5312) funds research, development, demonstration, and deployment projects, and evaluation of research and technology of national significance to public transportation that will improve public transportation. On average, on a yearly basis, FTA manages a research investment portfolio of over $200 million in active projects. When these projects identify and finalize useful, promising solutions and practices, it is essential that FTA has a way to quickly facilitate the deployment of these findings to transit agencies for their use.

This notice (Federal Assistance Listing: 20.531) announces a new Technology Transfer (T2) Program under 49 U.S.C. 5312(e)(2) to promote the early deployment and demonstration of innovation in public transportation that has broad applicability to public transportation. The T2 program will seek to build on successful research, innovation, and development efforts to facilitate the deployment of research and technology development resulting from federally funded efforts and the implementation of research and technology development to advance the interests of public transportation. A quarterly planning process between the FTA Research Office and the recipient of this award will facilitate the selection of which programs and projects to deploy. T2 will also support ensuring that FTA's Innovative Research activities meet Executive Order 14104, Federal Research and Development in Support of Domestic Manufacturing and United States Jobs (88 FR 51203). This Executive Order calls for the enhancement of U.S. manufacturing while encouraging technology transfer and commercialization and allowing small businesses and nonprofit organizations to retain ownership of and commercialize their federally funded products or inventions. As appropriate, T2 will also provide an opportunity for recipients of FTA innovative research funding to not only broadly share their research or inventions but to potentially commercialize them.

For this notice of funding opportunity (NOFO), FTA is defining “technology transfer” as the exchange of information to enable the deployment, adoption, and potentially the commercialization of FTA-funded research findings. Currently, FTA tracks and assesses the impact of technology adoption in two ways. First, FTA tracks technology research projects along the lifecycle of the projects and notes whether the recipient conducting the research chooses to adopt the new technology or process. Secondly, FTA analyzes data from the internal database of all FTA-funded programs using natural language search techniques to assess the level of deployment of FTA researched solutions. By further investing in the process of technology adoption through T2, FTA can reach a wider audience in the transit industry and more effectively track the use of FTA research findings.

In many instances, transit agencies and other stakeholders may not have the proper resources to access information that could potentially be beneficial to their organization. They may also be reluctant to participate in the exchange of information or hesitant to adopt new technology. The T2 program will address these deployment barriers and explore solutions to facilitate change management in the use of promising FTA innovative research adoption.

Program Goals

FTA is soliciting applications to develop and implement a new T2 program to facilitate the deployment of promising innovative research solutions resulting from FTA's research investments. A strategic aim for this work includes strengthening U.S. manufacturing by encouraging technology transfer and, as appropriate, supporting small businesses and nonprofit organizations' retention of intellectual property and helping commercialize their federally funded innovations.

The goals of the T2 program are to:

(1) Develop processes, systems, and resources to support the deployment and adoption of FTA's innovative research results in the public transportation industry.

(2) Support the commercialization and production of technologies developed in the U.S., in part through FTA-funded research and development.

(3) Overcome barriers and challenges affecting the adoption of research products in transit agencies.

Management and Coordination

The awardee will be responsible for overall program management, coordination, and adherence to established project timelines in accordance with available funding. This includes all aspects of resource management, compliance, and reporting, including oversight of sub-recipients, if any. Eligible activities include data collection, deployment specialists for planning, outreach, and knowledge transfer.

Development of Lessons Learned

Research conducted under this notice will advance the strategic goals of the U.S. Department of Transportation (USDOT) as outlined in its active Strategic Plan FY 2022-2026 and the Department's Innovation Principles, which can be found at https://www.transportation.gov/priorities/transformation/us-dot-innovation-principles.

B. Federal Award Information

This notice announces the availability of $5,000,000 to award one competitively selected application to develop and manage FTA's T2 program with an expected period of performance spanning at least 48 months. Funding is available under FTA's Public Transportation Innovation Program (49 U.S.C. 5312). FTA may, at its discretion, provide additional funding made under this notice, subject to the availability of funds.

An applicant whose application is selected for funding will receive a cooperative agreement with FTA. FTA will have substantial involvement in the administration of the cooperative agreement. FTA's role includes the right to participate in decisions to redirect and reprioritize project activities, goals, and deliverables. FTA expects to provide the recipient with substantive input and direction at each stage of the project. Applicants are encouraged to assemble and secure partnerships necessary to conduct the Program in accordance with the requirements outlined in this notice.

Projects under this notice will be for research efforts and, as such, FTA Circular 6100.1E, “Research, Technical Assistance, and Training Program Guidance” (available at https://www.fta.dot.gov/regulations-and-guidance/fta-circulars/research-technical-assistance-and-training-program), will apply in administering the program.

C. Eligibility Information

1. Eligible Applicants

Eligible applicants under this notice are departments, agencies, and instrumentalities of the Federal government, including Federal laboratories; State, local, and Tribal governmental entities; providers of public transportation; private or non-profit organizations; institutions of higher education; and technical and community colleges.

Eligibility is limited to United States entities. Applicants must demonstrate experience supporting the deployment of research findings, developing useful resources to facilitate technology transfer/deployment, digital repository development/management, and national-level program management expertise.

2. Cost Sharing or Matching

Per 49 U.S.C. 5312(g), the maximum Federal share is 100 percent of net project cost. Applicants are encouraged to consider some level of match. The non-Federal share of the net project cost may be provided in cash or in kind, and the applicant must document in its application the source of the non-Federal match. Eligible sources of non-Federal match are detailed in FTA Circular 6100.1E.

3. Conflicts of Interest

It is FTA's intent that the T2 program benefits public transportation agencies. Therefore, the principal staff and any sub-recipients staff engaged in this project cannot have a financial interest in the commercialization of a product.

D. Application and Submission Information

1. Address To Request Application

Applications must be made using the Standard Form 424 (SF-424), which can be downloaded from https://www.transit.dot.gov/grant-programs/technology-transfer-t2-program.

2. Content and Form of Application Submission

a. Application Submission

A T2 application must include the following: SF-424, Budget Information for Non-Construction Programs (SF-424A), Assurances for Non-Construction Programs (SF-424B), Project Narrative, and Summary Budget Narrative.

Additionally, applicants must submit a Negotiated Indirect Cost Rate Agreement (NICRA) and a Data Management Plan (DMP) if applicable.

i. A complete application must consist of the SF-424, which provides basic information about the applicant and the project, including details such as the applicant's name, unique entity identifier (UEI), key contact information, and a summary of the project. The SF-424A form is used to present a detailed budget for the project, ensuring that all financial aspects are accounted for and justified. The SF-424B form outlines the assurance that the applicant agrees to comply with the terms and conditions set forth by the Federal government.

ii. In addition to these forms, the application must include a supplemental form, a project narrative, and a summary budget narrative. The supplemental form and project overview should be prepared in Microsoft Word, PDF, or another compatible file format and must address all required elements outlined in the Notice of Funding Opportunity (NOFO). These documents should be attached to the “Attachments” section of the SF-424 form.

iii. For the budget, applicants must provide a summary and a high-level overview of estimated activity costs, organized major cost elements. The budget should clearly differentiate between the Federal funding share and non-Federal share funds, including the value of in-kind contributions. The budget form must not include previously incurred expenses or costs incurred before the award time. All budget information must be presented using SF-424A form. General submission instructions and specific form requirements can be found on grants.gov.

The applicant must respond to all sections of the SF-424 and the requirements of this notice. The information in the narrative application will be used to determine applicant and project eligibility for the program and to evaluate the application against the selection criteria described in this notice. Applicants should carefully review the criteria noted in Section E and ensure their proposal addresses the factors listed.

Failure to submit the information as requested can delay review or disqualify the application.

b. Application Preparation and Content

i. Consolidated Budget Form: The Consolidated Budget Form must align with the dollar amount specified in the SF-424 and meet the eligible use requirements outlined in the notice of funding opportunity (NOFO). It includes a budget narrative and a detailed budget spreadsheet, with costs consistent with project scope and allowable under relevant regulations. If indirect costs are included, documentation such as a negotiated indirect cost rate agreement is required.

ii. Allowable costs are determined in accordance with the cost principles identified in 2 CFR part 200, including subpart E, and in 48 CFR part 31 for commercial organizations. The detailed budget spreadsheet must reflect the cost categories that appear on the SF-424A and include itemized calculations for each cost placed under those categories. If indirect costs are included in the proposed budget, the applicant must provide a copy of the approved negotiated indirect cost rate agreement if this rate was negotiated with a cognizant Federal agency or otherwise document those indirect costs consistent with 2 CFR 200.414.

iii. Required Standard Federal Financial Assistance Forms and Documentation: Applicants must submit the SF-424, SF-424A, and SF-424B forms, along with any Negotiated Indirect Cost Rate Agreement and Data Management Plan.

iv. The SF-424 and supplemental form prompt applicants for essential information such as applicant details, project description, and budget breakdown. This includes a detailed project budget specifying Federal and local shares, funding sources, and matching funds. Additionally, it covers descriptions of project benefits, implementation strategy, scalability, and a detailed project timeline.

v. The project overview, submitted as a one-page document, should include a header with project title and lead applicant, along with brief description of innovation, benefits, team and partners, and approach. The format aligns with templates available on grants.gov.

vi. Budget Narrative: The budget narrative provides detailed explanations of proposed costs, aligning with the detailed budget spreadsheet and only including allowable expenses within the project scope. It should describe each cost item and its basis, including the Federal share, non-Federal share, and any in-kind contributions. Any indirect costs must be accompanied by relevant documentation. The narrative also explains leveraged resources and ensures consistency with SF-424 and SF-424A forms.

Applicants must submit one electronic file for applications in a Microsoft Word, PDF, or compatible file format, double-spaced using Times New Roman, 12-point font. The application must contain the following components and adhere to the specified maximum lengths:

1. Cover Sheet (not to exceed 1 page): The Cover Sheet must include the entity submitting the application, the principal's name, title, and contact information (e.g., address, office and mobile phone, and email). The cover sheet must also include name and contact information for the entity's point of contact for all cooperative agreement administrative activities (if different from principal).

2. Abstract (not to exceed 1 page): The Abstract must include background, purpose, methodology, intended outputs, outcomes, impacts, and plan for accomplishing the goals and objectives as outlined in this notice.

3. Table of Contents (not to exceed 1 page): The Table of Contents shall list each section of the application (including Appendices) by title and page number.

4. Project Budget (not to exceed five pages): The Project Budget should show how different funding sources will share in each activity and present those data in dollars and percentages. The budget should identify other Federal funds the applicant is applying for or has been awarded, if any, that the applicant intends to use. The proposed project budget must account for multiple years and outline the total cost of all services and products, including salaries and fringe benefits, supplies, travel, equipment, and proposed contractual arrangements (e.g., subcontracts, consultant services) and how these estimated costs are connected to the project scope.

5. Project Work Plan (not to exceed ten pages total): The proposed Project Work Plan must include the following information:

a. Methodology—Provide a methodology for addressing the goals described above and under Section A of this notice.

b. Statement of Work—Provide proposed work tasks for the project and how the goals will be accomplished with a detailed set of objectives and activities. Include the tasks for proposed activities, resources, and milestones, with a timeline that also notes critical path milestones. Note in the application how risk management related to barriers to deployment will be addressed. Please also note a sustainability strategy for how this work will be maintained in the future.

i. Staffing Plan—Describe the approach for managing the project team, including the distribution of responsibilities among project partners and what activities each project team member will perform.

ii. Coordination with FTA—Identify the plan for coordinating the project team's activities and deliverables with the FTA's Research office including suggesting a methodology for a regular review of research results and a process to select research ready for deployment.

iii. Research and Data Collection—Identify activities and the plan for electronic collection, maintenance, storage, and dissemination of data for use by the project team, stakeholders, FTA, and other customers.

iv. Communication Plan—Provide a plan for communication of project results. The plan should identify innovative communication strategies including, but not limited to, the following: webinars, in-person presentations at industry events, social media (e.g., Facebook, Twitter, YouTube), text alerts, email, website publication, and toll-free telephone numbers.

v. Performance Measures—Identify multiple performance measures that FTA should use to assess the Program's overall effectiveness.

vi. Deliverables—Provide a list of proposed deliverables (e.g., guides, plans, reports, services, etc.). Include quarterly reports, financial forms, guidance documents, and final reports to be submitted to FTA.

6. Staff Qualifications (not to exceed 5 pages total):

a. Organizational Capacity—Provide a narrative that briefly describes the structure of the applicant, including its history and experience in technology transfer and the national deployment of research findings, preferably in the transportation sector. Include a narrative of the applicant's understanding of the activities in this solicitation and its responsibility for the data collection and results deployment called for in this notice. Include the applicant's organization chart.

b. Project Team Structure—Provide a narrative that briefly describes the structure and makeup of the project team. Provide resumes or biographies of key staff to highlight the relevant skills and experience of the proposed team. Eligible applicants are encouraged to identify in their application one or more project partners with a substantial interest and involvement in the project activities or objectives.

Applications submitted in response to this notice become FTA records and as such, may be subject to Freedom of Information Act requests. Please segregate and clearly mark any portions of the application containing confidential or privileged trade secrets or commercial or financial information.

3. Unique Entity Identifier and System for Award Management (SAM.GOV)

Each applicant is required to: (1) be registered in SAM.GOV before applying; (2) provide a valid unique entity identifier in its application; and (3) maintain an active SAM.GOV registration with current information at all times during which the applicant has an active Federal award or an application or plan under consideration by FTA. FTA may not make an award until the applicant has complied with all applicable unique entity identifier and SAM.GOV requirements. If an applicant has yet to fully comply with the requirements by the time FTA is ready to make an award, FTA may determine that the applicant is not qualified to receive an award and use that determination as a basis for making a Federal award to another applicant. These requirements do not apply if the applicant has an exception approved by FTA or the U.S. Office of Management and Budget under 2 CFR 25.110(c) or (d).

SAM.GOV registration takes approximately 3-5 business days, but FTA recommends allowing ample time, up to several weeks, to complete all steps. For additional information on obtaining a unique entity identifier, please visit https://www.sam.gov.

4. Submission Dates and Times

Project applications must be submitted electronically through grants.gov by 11:59 p.m. eastern time on February 11, 2025. Proposals submitted after the deadline will only be considered under extraordinary circumstances, not under the applicant's control. Mail, fax, and email submissions will not be accepted.

FTA urges applicants to submit applications at least 72 hours prior to the due date to allow time to correct any problems that may have caused either grants.gov or FTA systems to reject the submission. Grants.gov attaches a time stamp to each application at the time of submission. Applications submitted after the deadline will be considered only if lateness was due to extraordinary circumstances not under the applicant's control. Grants.gov scheduled maintenance and outage times are announced in advance on the grants.gov website. Deadlines will not be extended due to scheduled website maintenance.

Within 48 hours after submitting an electronic application, the applicant should receive an email message from grants.gov with confirmation of successful transmission to grants.gov. If a notice of failed validation or incomplete materials is received, the applicant must address the reason for the failed validation, as described in the email notice, and resubmit before the submission deadline. If making a resubmission for any reason, include all original attachments regardless of which attachments were updated, and check the box on the supplemental form indicating this is a resubmission.

Applicants are encouraged to begin the registration process on the grants.gov site well in advance of the submission deadline. Registration is a multi-step process, which may take several weeks to complete before an application can be submitted. Registered applicants may still be required to take steps to keep their registration up to date before submissions can be made successfully: (1) registration in sam.gov is renewed annually, and (2) persons making submissions on behalf of the Authorized Organization Representative (AOR) must be authorized in grants.gov by the AOR to make submissions.

5. Funding Restrictions

Refer to Section C.3., Eligible Projects, for information on allowable activities. Allowable direct and indirect expenses must be consistent with the Government-Wide Uniform Administrative Requirements and Cost Principles (2 CFR part 200) and FTA Circular 5010.1F.

Funds available under this notice cannot be used to reimburse applicants for otherwise eligible expenses incurred prior to FTA issuing pre-award authority for selected projects.

E. Application Review Information

1. Evaluation Criteria

Projects will be evaluated solely on the materials provided in the application document. FTA will evaluate applications based on the following criteria:

a. Organizational Capacity and Key Personnel Experience

Applicants should note the structure of the lead organization, including its history and experience in performing complex research and deployment activities. Applicants should include a narrative of the applicant's understanding of the activities called for in this funding opportunity. Applicants should describe the structure and makeup of the project team to clearly demonstrate the applicant's technical abilities to meet the requirements called for in this funding opportunity. Applicants should note key project team personnel who will be involved in the project and how the applicant will ensure they have enough time to devote to the project. Additionally, applicants should discuss successful completion of similar or relevant real-world projects—case studies, journal articles, references, etc.

b. Applicant and Applicant Team Technical Expertise

Applicants should clearly detail the technical capacity of the lead organization and what activities each team member will perform. In addition to their qualifications in conducting nationally significant research and deployment, applicants should demonstrate project team knowledge in public transportation, technology transfer and stakeholder coordination and engagement, including engaging stakeholders in a targeted manner with proven and impactful methods.

c. Familiarity With the Public Transportation Industry

Applicants should be familiar with the work conducted by FTA's Public Transportation Innovation Program (49 U.S.C. 5312). This would include familiarity with public transportation associations, University Transportation Centers, metropolitan planning organizations, different types of transit agencies (i.e., rural, small, and large urban, bus, rail, Tribal, community-based organizations that provide shared rides, and other entities that focus on public transportation.

d. Applicants Must Be Able To Demonstrate Previous Work and a Thorough Understanding of Technology Transfer and Research Results Deployment

FTA is looking for innovative ways to facilitate the deployment of promising research findings including the use of online resources and repositories. Any repositories suggested must not duplicate the USDOT's Research Hub (a web-based, searchable database of USDOT-sponsored research, development, and technology project records) and the Transportation Research Board (TRB) Transport Research International Documentation TRID database (an integrated database that combines the records from TRB's Transportation Research Information Services (TRIS) Database and the Organization for Economic Co-operation and Development (OECD's) Joint Transport Research Centre's International Transport Research Documentation (ITRD) Database).

e. Project Approach and Work Plan

Applicants will be evaluated on the proposed methodology and overall project approach pursuant to the inclusion of a multi-year work plan (i.e., $5,000,000 over a minimum of 48 months) that demonstrates the applicant's understanding of all activities, responsibilities, and costs required to develop, implement, and measure a robust T2 program. In assessing whether the proposed implementation plans are reasonable and complete, FTA will review the proposed project work plan, including all necessary project milestones and the overall project timeline, as well as ensure the project team's viability in subsequent years.

f. Technical, Legal, and Financial Capacity

Applicants must demonstrate the financial and organizational capacity and managerial experience to oversee and implement this project successfully. FTA may review relevant assessments and public records to determine whether any outstanding legal, technical, or financial issues with the applicant would affect the outcome of the proposed project.

For applications that include named project partners, FTA will also consider the proposed partners' technical, legal, and financial capacity.

2. Review and Selection Process

An FTA technical evaluation committee will evaluate applications based on the published evaluation criteria. Members of the technical evaluation committee may request additional information from applicants if necessary. After considering the review of the technical evaluation committee, the FTA Administrator will determine the final selection for program funding.

3. Integrity and Performance Review

Prior to making an award, FTA is required to review and consider any information about the applicant that is in the Federal Awardee Performance and Integrity Information Systems (FAPIIS), the designated integrity and performance system accessible through sam.gov. An applicant may review and comment on any information about itself that a Federal awarding agency previously entered. FTA will consider any comments by the applicant, in addition to the other information in the designated integrity and performance system, in making a judgment about the applicant's integrity, business ethics, and record of performance under Federal awards when completing the review of risk posed by applicants as described in the Office of Management and Budget's Uniform Requirements for Federal Awards (2 CFR 200.206).

F. Federal Award Administration Information

1. Federal Award Notices

FTA will notify the successful applicant and may announce the selection on its website, https://www.transit.dot.gov. Following notification, the successful applicant will be required to submit their application through the FTA Transit Award Management System (TrAMS).

2. Administrative and National Policy Requirements

a. Pre-Award Authority

At the time the project selection is announced, FTA may extend pre-award authority for the successful applicant. There is no blanket pre-award authority for the project before announcement. FTA will issue specific guidance to the selected recipient regarding pre-award authority at the time of selection. FTA does not provide pre-award authority for these competitive funds until projects are selected, and even then, Federal requirements must be met before costs are incurred. For more information about FTA's policy on pre-award authority, please see the most recent Apportionments, Allocations, and Program Information Notice at 89 FR 47211.

b. Cooperative Agreement Requirements

The successful applicant will apply for a cooperative agreement through TrAMS and adhere to the customary FTA grant requirements of 49 U.S.C. 5312, Public Transportation Innovation, including those of FTA C 6100.1E, where applicable. FTA will award and manage a cooperative agreement through TrAMS. Discretionary grants and cooperative agreements greater than $500,000 will go through the Congressional notification and release process. Assistance regarding these requirements is available from FTA.

c. Data Management Plan

FTA seeks to improve public transportation for America's communities by sharing digital data or source code collected or developed through its research with the public. This allows research organizations, public transportation agencies, State DOTs, and other stakeholders to learn from and expand upon the insights developed from FTA-funded research.

An award made pursuant to this notice will be subject to the latest version of FTA's Master Agreement (available at https://www.transit.dot.gov/funding/granteeresources/sample-fta-agreements/fta-grant-agreements), including Section 17 Patent Rights and Section 18 Rights in Data and Copyrights. All work conducted under this award must follow the Department data policies outlined in the USDOT Public Access Plan at: https://ntl.bts.gov/public-access/how-comply. Recipients are required to include these obligations in any sub-awards or other related funding agreements.

Public Data Access requirements include developing a Data Management Plan (DMP) and submitting the DMP for FTA review. A DMP is a document that describes how recipients plan to handle digital datasets, software, or code generated over the course of a research project pursuant to Federal and Departmental requirements. A DMP must be provided as a condition of receiving FTA funds under the Section 5312 Research Program and should adequately identify: (1) The data to be collected, (2) how the data will further the goals of this effort, (3) how the data will be made accessible, and (4) how the data will be stored. DMPs can be updated over time if the scope of the project or the type of data that will be collected changes. FTA staff is available to assist recipients with complying with public data access requirements.

FTA expects recipients to remove confidential business information (CBI) and Personally Identifiable Information (PII) before providing public access to project data. Recipients must ensure the appropriate data are accessible to FTA or the public for a minimum of five years after the award's performance period expires.

Recipients must make available to the Department copies of all work developed in performance of a project funded under this notice, including but not limited to software and data. Data rights shall be in accordance with 2 CFR 200.315, Intangible Property.

d. Disadvantaged Business Enterprises/Civil Rights and Title VI

All FTA recipients must comply with the Department of Transportation Disadvantaged Business Enterprise (DBE) program regulation (49 CFR part 26). A recipient has different obligations depending on the amount and type of FTA funds it awards in a year. A recipient that awards up to $670,000 in FTA funds in prime contracts in a fiscal year must adhere to certain recordkeeping and reporting requirements and take steps to foster the participation of small businesses but need not develop a DBE participation goal. A recipient that awards more than $670,000 of FTA funds in prime contracts in a fiscal year must have a full DBE program, including setting a DBE goal. Applicants should expect to include any funds awarded, excluding those used for vehicle procurements, in setting their overall DBE goal.

As a condition of a grant award, grant recipients should demonstrate that the recipient has a plan for compliance with civil rights obligations and nondiscrimination laws, including Title VI of the Civil Rights Act of 1964 (49 CFR part 21), the Americans with Disabilities Act of 1990 (ADA) (49 CFR parts 37, 38, and 39), section 504 of the Rehabilitation Act, other civil rights requirements, and all implementing regulations. This should include a current Title VI plan, completed Community Participation Plan (alternatively called a Public Participation Plan and often part of the overall Title VI program plan), if applicable. DOT's and the applicable Operating Administrations' Office of Civil Rights may work with awarded grant recipients to ensure full compliance with Federal civil rights requirements.

e. Standard Assurances

If an applicant receives an award, the applicant must assure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

f. External Communications

The successful applicant must communicate with the FTA project manager prior to engaging in any external communications regarding the Program. This includes any work developing news or magazine stories with media organizations, including print, video, online, or otherwise. Additionally, the FTA project manager must be notified if project information, including results and metrics, will be shared during a webinar or other presentation open to the public, produced either by the recipient itself or another organization. The successful applicant must consult with the FTA project manager at the beginning of their agreement to discuss and plan any external communications about their project.

g. Software Provisions

Any standards, guidance, tools, or software developed as a part of this solicitation will be subject to provisions of FTA's Master Agreement and evaluated for the potential to be shared for FTA purposes.

Critical Infrastructure Security, Cybersecurity and Resilience: It is the policy of the United States to strengthen the security and resilience of its critical infrastructure against all hazards, including physical and cyber risks, consistent with Presidential Policy Directive 21—Critical Infrastructure Security and Resilience, and the National Security Memorandum on Improving Cybersecurity for Critical Infrastructure Control Systems. The applicant selected for funding under this program must demonstrate, prior to the signing of the grant agreement, effort to consider and address physical and cyber security risks relevant to the transportation mode and type and scale of the project. Projects that have not appropriately considered and addressed physical and cyber security and resilience in their planning, design, and project oversight, as determined by the Department and the Department of Homeland Security, will be required to do so before receiving funds.

3. Reporting and Payment

Post-award reporting requirements include the electronic submission of Federal Financial Reports and Milestone Progress Reports in TrAMS quarterly. Documentation is required for payment. Additional reporting may be required specific to the program prescribed in this notice, and the recipient may be expected to participate in events or peer networks related to the goals and objectives of the program. The Federal Financial Accountability and Transparency Act (FFATA) requires data entry at the FFATA Sub Award Reporting System (https://www.FSRS.gov) for all sub-awards and sub-contracts issued for $30,000 or more, as well as addressing executive compensation for both award recipients and sub-award organizations. The selected recipient will be required to disburse via Delphi and E-invoicing.

The successful applicant should include any goals, targets, and indicators referenced in its application in the Executive Summary of the TrAMS application.

As part of completing the annual certifications and assurances required of FTA grant recipients, a successful applicant must report on the suspension or debarment status of itself and its principals.

If the award recipient's active grants, cooperative agreements, and procurement contracts from all Federal awarding agencies exceed $10,000,000 for any period during the period of performance of an award made pursuant to this notice, the recipient must comply with the Recipient Integrity and Performance Matters reporting requirements described in appendix XII to 2 CFR part 200.

4. Termination for Failure To Make Progress on an Award

After providing written notice to the recipient of a project selected for funding, FTA may withdraw its support for the selected project (if a cooperative agreement has not yet been awarded) or suspend or terminate all or any part of the Federal assistance for the award if the recipient has failed to make reasonable progress implementing the project. FTA may withdraw its support for a project or terminate an award agreement if, among other reasons:

1. A recipient has not completed its application for funding in TrAMS within 60 days of the date FTA announces project selection.

2. A recipient has not begun its demonstration project within one year after funding was awarded in TrAMS.

3. A recipient has not delivered a project evaluation to FTA within one year of completing its demonstration project.

4. FTA may also withdraw support from a project or terminate an award agreement if the proposed activities are no longer needed or if the recipient has violated the terms of FTA's Annual Agreement.

G. Federal Awarding Agency Contacts

For further information concerning this notice, please contact the T2 Program Manager, FTA Office of Research, Demonstration, and Innovation, by email at shapell.randolph@dot.gov. A TDD is available for individuals who are deaf or hard of hearing at 800-877-8339. In addition, FTA will post answers to questions and requests for clarifications on FTA's website at: https://www.transit.dot.gov/research-innovation.

To ensure applicants receive accurate eligibility information, applicants are encouraged to contact FTA directly, rather than through intermediaries or third parties, with questions. FTA staff may also conduct briefings on the FY 2024 competitive grants selection and award process upon request.

For issues with grants.gov, please contact grants.gov by phone at 1-800-518-4726 or by email at support@grants.gov.

H. Other Information

This program is not subject to Executive Order 12372, “Intergovernmental Review of Federal Programs.” There are resources available that may help in responding to this notice, as listed below. The FTA website has information about FTA, application forms, statutory and administrative requirements, etc. Applicants are encouraged to use the FTA link provided and other information, as listed, as much as is needed.

Veronica Vanterpool,
Deputy Administrator.

[FR Doc. 2024-28271 Filed 12-2-24; 8:45 am]

BILLING CODE 4910-57-P